DEPARTMENT OF DEFENSE

Department of the Navy

Record of Decision for the Disposal and Reuse of Naval Station Brooklyn, New York

SUMMARY: The Department of the Navy (Navy), pursuant to Section 102(2)(C) of the National Environmental Policy Act of 1969 (NEPA), 42 U.S.C. 4332(2)(C) (1994), and the regulations of the Council on Environmental Quality that implement NEPA procedures, 40 CFR parts 1500-1508, hereby announces its decision to dispose of Naval Station Brooklyn, which is located in Brooklyn, New York.

Navy analyzed the impacts of the disposal and reuse of Naval Station Brooklyn in an Environmental Impact Statement (EIS), as required by NEPA. The EIS analyzed four reuse alternatives and identified the Redevelopment Plan for Naval Station Brooklyn, New York, dated March 1, 1996 (Reuse Plan), prepared by the City of New York and described in the EIS as the Reuse Plan Alternative, as the Preferred Alternative.

The Preferred Alternative proposed to use the Naval Station property for industrial, institutional, non-profit, and commercial activities and to develop open space and recreational areas. The Brooklyn Navy Yard Development Corporation replaced the City of New York as the Local Redevelopment Authority (LRA) for Naval Station Brooklyn on November 27, 2000. Department of Defense Rule on Revitalizing Base Closure Communities and Community Assistance (DoD Rule), 32 CFR 176.20(a).

Navy intends to dispose of Naval Station Brooklyn in a manner that is consistent with the Reuse Plan. Navy has determined that the proposed mixed land use will meet the goals of achieving local economic redevelopment, creating new jobs, and providing additional recreational resources, while limiting adverse environmental impacts and ensuring land uses that are compatible with adjacent property. This Record of Decision does not mandate a specific mix of land uses. Rather, it leaves selection of the particular means to achieve the proposed redevelopment to the acquiring entity and the local zoning authority.

Background: Under the authority of the Defense Authorization Amendments and Base Closure and Realignment Act, Public Law 100-526, 10 U.S.C. 2687 note (1994), the 1988 Defense Secretary's Commission on Base Realignment and Closure recommended the closure of Naval Station Brooklyn. This recommendation was approved by the Secretary of Defense, Frank Carlucci, and accepted by the One Hundred First Congress in 1989. The Naval Station closed on March 23, 1993.

Naval Station Brooklyn is situated on about 29 acres in the eastern part of the Borough of Brooklyn. The property is oriented along a north-south axis and has an irregular border.

It is bounded on the north by the East River waterfront of the Brooklyn Navy Yard Development Corporation's industrial park; on the east by the Brooklyn-Queens Expressway (BQE); on the south by Flushing Avenue; and on the west by Washington Avenue and parts of the former Brooklyn Navy Yard. The Naval Station property is surrounded by industrial and commercial activities. Residential neighborhoods are located farther north, east and south of the base.

This Record Of Decision addresses the disposal and reuse of the Naval Station property, which is surplus to the needs of the Federal Government. The surplus property covers about 29 acres and contains 36 buildings and structures that provide about 629,000 square feet of space. Buildings 1 and 2, the largest buildings on the base, supply more than half of the floor space available for redevelopment.

Navy published a Notice Of Intent in the Federal Register on January 31, 1997, announcing that Navy would prepare an EIS for the disposal and reuse of Naval Station Brooklyn. On February 13, 1997, Navy held public scoping meetings at New York City's Department of City Planning and at the Brooklyn Borough Hall. The scoping period concluded on March 14, 1997.

Navy distributed the Draft EIS (DEIS) to Federal, State, and local agencies, elected officials, interested parties, and the general public on October 8, 1999, and commenced a 45-day public review and comment period. During this period, Federal, State, and local agencies, community groups and associations, and interested persons submitted oral and written comments concerning the DEIS. On October 21, 1999, Navy held a public hearing at the Brooklyn Borough Hall to receive comments on the DEIS.

Navy's responses to the public comments on the DEIS were incorporated in the Final EIS (FEIS), which was distributed to the public on August 11, 2000, for a review period that concluded on September 10, 2000. Navy received five letters commenting on the FEIS.

Alternatives: NEPA requires Navy to evaluate a reasonable range of alternatives for the disposal and reuse of this surplus Federal property. In the FEIS, Navy analyzed the environmental impacts of four reuse alternatives. Navy also evaluated a “No Action” alternative that would leave the property in caretaker status with Navy maintaining the physical condition of the property, providing a security force, and making repairs essential to safety.

The City of New York began to plan for reuse of the Naval Station in 1992. On March 1, 1996, the City of New York, acting as the Local Redevelopment Authority for the Naval Station, issued the Redevelopment Plan for Naval Station Brooklyn, New York.

The Reuse Plan, identified in the FEIS as the Preferred Alternative, proposed a mix of land uses in four areas designated as the Northern Triangle, the BQE Frontage, the Western Industrial Sector, and the Hospital Campus. The Reuse Plan would take advantage of the property's industrial facilities and proximity to the former Brooklyn Navy Yard and minimize impacts on the historic campus of the Brooklyn Naval Hospital, which is located on the Naval Station property. It did not propose to build any new structures on the property.

The Preferred Alternative would dedicate 2.2 acres in the Northern Triangle at the northern end of the Naval Station to light industrial activities and warehouses. It would assign two acres in the BQE Frontage area, located in the southeast corner of the property at the intersection of Flushing Avenue and Williamsburg Street (facing the elevated BQE Expressway), to light industrial activities and retail stores.

The Preferred Alternative would dedicate 6.4 acres in the Western Industrial Sector at the southwest corner of the Naval Station to technology manufacturing, research, light industrial activities, and offices. It would integrate Buildings 1 and 2, the largest buildings on the base, and two smaller buildings with industrial activities in the former Brooklyn Navy Yard that is managed by the Brooklyn Navy Yard Development Corporation.

The Preferred Alternative would dedicate 18.3 acres in the center of the base, designated as the Hospital campus, to institutional and non-profit activities and to open space and recreational activities. The Reuse Plan did not propose particular uses for the buildings comprising the Hospital Campus, but these facilities could be used for day care, health care, job training, educational, and other institutional purposes.

The Naval Hospital Cemetery is located on about 1.7 acres in the eastern part of the base inside the Hospital Campus. During preparation of the Reuse Plan, Navy and the City believed that all of the burial remains had been relocated to another cemetery in 1926. Thereafter, Navy converted the Cemetery property to recreational athletic fields. After the Reuse Plan was issued in 1996, however, Navy discovered that the number of burials in the Cemetery exceeded the number that, according to records, had been relocated in 1926. As a result, Navy restored the Cemetery grounds, and this property will be preserved as a cemetery.

Navy analyzed a second “action” alternative, described in the FEIS as the Residential Alternative. Under this Alternative, the land uses proposed for the Northern Triangle, the Western Industrial Sector and the BQE Frontage property would be the same as those proposed by the Preferred Alternative. However, the Hospital Campus facilities would be used for residential rather than institutional purposes. This Alternative would not build any new residential units but would convert and renovate the Bachelor Officers Quarters and the single-family homes into 94 multi-family homes.

Navy analyzed a third “action” alternative, described in the FEIS as the Museum Alternative. Under this Alternative, the land uses proposed for the Northern Triangle and the Western Industrial Sector would be the same as those proposed by the Preferred Alternative, but the BQE Frontage and Hospital Campus facilities would be used for educational and cultural activities. This Alternative would not undertake any new construction.

Navy analyzed a fourth “action” alternative, described in the FEIS as the As-of-Right Alternative. Under this Alternative, the property would be redeveloped to the maximum extent permitted by New York City's zoning ordinances. Four buildings, Buildings 1 and 2, Building R-1 (the Surgeon's House), and Building R-95 (the Naval Hospital), would be retained, but the other buildings would be demolished to allow maximum development of the property. The Cemetery would be retained as open space. This Alternative would develop about 2.1 million square feet of space for retail stores, warehouses, and manufacturing activities.

Environmental Impacts: Navy analyzed the direct, indirect, and cumulative impacts of the disposal and reuse of this surplus Federal property. The EIS addressed impacts of the Preferred Alternative, the Residential Alternative, the Museum Alternative, the As-of-Right Alternative, and the “No Action” Alternative for each Alternative's effects on land use and zoning, socioeconomics, community facilities and services, transportation, air quality, noise, infrastructure, cultural resources, natural resources, and petroleum and hazardous substances. This Record Of Decision focuses on the impacts that would likely result from implementation of the Reuse Plan, identified in the FEIS as the Preferred Alternative.

The Preferred Alternative would not have a significant impact on land use and would result in land uses that are compatible with existing and planned uses in the surrounding area. The Reuse Plan would redevelop the Naval Station property for use in light industrial, institutional, community, commercial, and active and passive recreational activities. Under the Reuse Plan, the property's zoning would change to permit light industrial, commercial, and community activities but not residential uses.

The Preferred Alternative would not have an impact on the socioeconomics of the surrounding area. The Reuse Plan would generate about 1,630 new direct jobs with annual earnings of about $45.7 million. These new jobs would constitute about 0.03 percent of the jobs in the City of New York. The Reuse Plan would also generate about 870 indirect jobs with annual earnings of about $24 million. It would produce about $8.3 million annually in state and local income taxes and sales taxes.

The Preferred Alternative would not have a significant impact on community services. There will be no residential use of the property under the Reuse Plan, and no new workers will move into the area as a result of the Reuse Plan. Therefore, there will not be any new demands placed on local schools. The presence of additional workers on the property, however, would slightly increase the demands placed on the resources of the two nearby hospitals. The Preferred Alternative would not have a direct impact on local police, fire, emergency, and other community services.

The Preferred Alternative would substantially increase the amount of open space and make the Hospital Campus available to the public. About 11.2 acres of active recreational space and 8.8 acres of passive recreational space, including the 1.7-acre Naval Cemetery, would be available to the public.

The Preferred Alternative would not have a significant impact on transportation. By the year 2002, the Preferred Alternative would generate about 11,200 average daily trips to and from the property. The Naval Station property has not generated a substantial number of average daily trips since it was placed in caretaker status in 1993. Consequently, this Alternative would increase the amount of traffic in the area and cause traffic delays at the intersections of Flushing Avenue and Williamsburg Street, Flushing Avenue and Classon Avenue, and Flushing Avenue and Clinton Avenue. The traffic flow at these intersections could be improved by modifying the traffic signals. There is adequate public transportation to support the proposed redevelopment of the Naval Station property.

The Preferred Alternative would not have a significant impact on air quality. The Naval Station property is located in a severe nonattainment area for ozone and a moderate nonattainment area for carbon monoxide (CO), as regulated by the Clean Air Act, 42 U.S.C. 7401-7671q (1994). Ozone, commonly known as smog, is produced when volatile organic compounds and nitrogen oxides react in the atmosphere. The Naval Station property is in attainment for all other common air pollutants regulated under the Clean Air Act.

Carbon monoxide is produced by the burning of fossil fuels. As a result of traffic moving to and from the property, the annual emissions of CO would increase under the Reuse Plan. Nevertheless, there would not be any violation of the national standards governing emissions of carbon monoxide.

The impact on air quality from stationary sources of emissions, such as heating units, would depend upon the nature and extent of activities conducted on the property. Developers of these facilities will be responsible for obtaining the required air permits and for complying with Federal, State and local laws and regulations governing air pollution. The temporary impacts on air quality resulting from renovation activities would not be significant.

Section 176(c) of the Clean Air Act, 42 U.S.C. 7506 (1994), requires Federal agencies to review their proposed activities to ensure that these activities do not hamper local efforts to control air pollution. Section 176(c) prohibits Federal agencies from conducting activities in air quality areas such as the City of New York that do not meet one or more of the national standards for ambient air quality, unless the proposed activities conform to an approved implementation plan. The United States Environmental Protection Agency regulations implementing Section 176(c) recognize certain categorically exempt activities. Conveyance of title to real property and certain leases are categorically exempt activities. 40 CFR 93.153(c)(2)(xiv) and (xix). Therefore, the disposal of Naval Station Brooklyn will not require Navy to conduct a conformity determination.

The Preferred Alternative would have a significant noise impact on Steuben Playground, which is located across Flushing Avenue from the Naval Station property. Those who use this playground during the morning peak traffic period would experience noise levels in excess of 65 decibels arising out of the increased traffic at this time of day. This constitutes a 3.2 decibel increase in the ambient noise level, and an increase in noise in excess of three decibels with a total noise impact above 65 decibels constitutes a significant impact under New York City standards. There were insignificant impacts at the other nine sites analyzed for noise, because the increases in ambient noise levels were less than three decibels. Generally, a person cannot perceive a change in noise levels that are less than three decibels.

The Preferred Alternative would not have a significant impact on the capacity of the City of New York's utility systems. The City's water system can supply the Reuse Plan's projected daily demand of about 55,000 gallons of potable water. The proposed redevelopment of the Naval Station property would not have a significant impact on the City's wastewater treatment capacity. The City's Newtown Creek Water Pollution Control Plant can provide the Reuse Plan's daily requirement to treat 55,000 gallons of wastewater. The City also has adequate solid waste disposal capacity, and no significant impact is likely to result from the disposal of solid waste generated by the Reuse Plan.

Implementation of the Preferred Alternative would result in renovation of most of the buildings on the property. Only a few deteriorated structures would be demolished. However, it would be necessary to upgrade and renovate the utility distribution systems to provide adequate services.

The Preferred Alternative would not have a significant impact on cultural resources. Pursuant to Section 106 of the National Historic Preservation Act of 1966 (NHPA), 16 U.S.C. 470f (1994), Navy conducted a cultural resources survey and determined that parts of the Naval Station property are eligible for listing on the National Register of Historic Places as two separate historic districts. The Brooklyn Navy Yard Historic District encompasses most of the buildings in the Northern Triangle, the Western Industrial Sector, and the BQE Frontage area. These were built during the World War II expansion of the Navy Yard. The United States Naval Hospital Historic District contains historically significant Nineteenth and Twentieth Century institutional, residential, and industrial buildings as well as the Naval Hospital Cemetery.

In a letter dated November 18, 1994, the New York State Historic Preservation Officer concurred in Navy's determination that the Naval Station was eligible for listing on the National Register of Historic Places. In addition, the Naval Hospital, built in 1838, and the Surgeon's House, built in 1864, have been designated as New York City Landmark Buildings by the City of New York's Landmarks Preservation Commission.

The Naval Hospital Cemetery, located on the Hospital Campus, served as the Naval Hospital's burial ground from 1824 to 1910. In 1926, Navy removed 987 burial remains from the Cemetery and interred them at Cypress Hills National Cemetery in Brooklyn. During the 1930s and 1940s, believing that all of the burial remains had been relocated, Navy converted the Cemetery property to recreational athletic fields.

During 1996 and 1997, Navy conducted documentary research and field tests and concluded that there were no records confirming the removal of about 517 burial remains. Thus, in 1999, Navy removed the recreational equipment and altered the landscape of the site to restore it as a cemetery. The Reuse Plan would preserve the Cemetery in accordance with a protective covenant that Navy will place in the deed for the Cemetery property.

Future alterations of buildings and structures in the historic districts must be conducted in accordance with the Secretary of the Interior's Standards for Rehabilitation and in accordance with the terms of the Programmatic Agreement executed by Navy, the Advisory Council on Historic Preservation, and the State Historic Preservation Officer on June 16, 2000. As a result, there will not be any adverse effects on cultural resources. In addition, because the Naval Hospital and the Surgeon's House are City of New York landmarks, any alterations to these buildings must be reviewed and permitted by the City of New York's Landmarks Preservation Commission.

The Preferred Alternative would not have a significant impact on upland vegetation wildlife. The existing vegetation on the property consists largely of maintained lawns and ornamental and naturally occurring trees and shrubs. Since the Reuse Plan would not build any new structures on the property, the existing vegetation will remain undisturbed.

Navy determined that there were no Federally-listed threatened or endangered species, as defined by the Endangered Species Act of 1973, 16 U.S.C. 1531-1544 (1994), on the Naval Station property. Therefore, the disposal and reuse of Naval Station Brooklyn would not have an adverse effect on Federally-listed threatened or endangered species.

Implementation of the Preferred Alternative would not significantly alter the amount of impervious surface on the property. As a result, the amount of stormwater runoff would not increase. Stormwater must be managed in accordance with Federal, State, and local laws and regulations, and the acquiring entity will be responsible for restoring and building adequate drainage facilities.

The Preferred Alternative would not have an impact on floodplains. About one acre in the northeastern part of the Naval Station lies between the 100-year and 500-year floodplains, but the Preferred Alternative does not plan to develop this area. Consequently, there would be not be an impact here.

The Preferred Alternative would not have a significant impact on the environment as a result of the use of petroleum products or the use or generation of hazardous substances by the acquiring entity. Hazardous materials used and hazardous wastes generated by the Reuse Plan will be managed in accordance with Federal and State laws and regulations.

Implementation of the Preferred Alternative would not have an impact on public health and safety at the Naval Station. Navy will inform future property owners about the environmental condition of the property and may, when appropriate, include restrictions, notifications, or covenants in deeds to ensure the protection of human health and the environment in light of the intended use of the property.

Executive Order 12898, Federal Actions to Address Environmental Justice in Minority Populations and Low-Income Populations, 3 CFR 859 (1995), requires that Navy determine whether any low income and minority populations will experience disproportionately high and adverse human health or environmental effects from the proposed action. Navy analyzed the impacts on low income and minority populations pursuant to Executive Order 12898. The FEIS addressed the potential environmental, social, and economic impacts associated with the disposal of Naval Station Brooklyn and reuse of the property under the various proposed alternatives. Minority and low income populations residing within the region would not be disproportionately affected. Indeed, the direct and indirect employment opportunities and increased recreational resources generated by the Reuse Plan would have beneficial effects.

Navy also analyzed the impacts on children pursuant to Executive Order 13045, Protection of Children from Environmental Health Risks and Safety Risks, 3 CFR 198 (1998). Under the Preferred Alternative, children would only be present as visitors to the property. The Preferred Alternative would not pose any disproportionate environmental health or safety risks to children.

Mitigation: Implementation of Navy's decision to dispose of Naval Station Brooklyn does not require Navy to implement any mitigation measures. Navy will take certain other actions to implement existing agreements and regulations. These actions were treated in the FEIS as agreements or regulatory requirements rather than as mitigation.

The FEIS identified and discussed those actions that will be necessary to mitigate impacts associated with reuse of the Naval Station property. The acquiring entity, under the direction of Federal, State, and local agencies with regulatory authority over protected resources, will be responsible for implementing necessary mitigation measures.

Comments Received on the FEIS: Navy received comments on the FEIS from the United States Environmental Protection Agency; the New York State Department of Environmental Conservation; the City of New York's Landmarks Preservation Commission; the Fort Greene Association; and one private citizen. These comments concerned issues already discussed in the FEIS and do not require further clarification.

Regulations Governing the Disposal Decision: Since the proposed action contemplates a disposal under the Defense Base Closure and Realignment Act of 1990 (DBCRA), Public Law 101-510, 10 U.S.C. 2687 note (1994), Navy's decision was based upon the environmental analysis in the FEIS and application of the standards set forth in the DBCRA, the Federal Property Management Regulations (FPMR), 41 CFR part 101-47, and the Department of Defense Rule on Revitalizing Base Closure Communities and Community Assistance (DoD Rule), 32 CFR parts 174 and 175.

Section 101-47.303-1 of the FPMR requires that disposals of Federal property benefit the Federal Government and constitute the “highest and best use” of the property. Section 101-47.4909 of the FPMR defines the “highes and best use” as that use to which a property can be put that produces the highest monetary return from the property, promotes its maximum value, or serves a public or institutional purpose. The “highest and best use” determination must be based upon the property's economic potential, qualitative values inherent in the property, and utilization factors affecting land use such as zoning, physical characteristics, other private and public uses in the vicinity, neighboring improvements, utility services, access, roads, location, and environmental and historic considerations.

After Federal property has been conveyed to non-Federal entities, the property is subject to local land use regulations, including zoning and subdivision regulations, and building codes. Unless expressly authorized by statute, the disposing Federal agency cannot restrict the future use of surplus Government property. As a result, the local community exercises substantial control over future use of the property. For this reason, local land use plans and zoning affect determination of the “highest and best use” of surplus Government property.

The DBCRA directed the Administrator of the General Services Administration (GSA) to delegate to the Secretary of Defense authority to transfer and dispose of base closure property.

Section 2905(b) of the DBCRA directs the Secretary of Defense to exercise this authority in accordance with GSA's property disposal regulations, set forth in Part 101-47 of the FPMR. By letter dated December 20, 1991, the Secretary of Defense delegated the authority to transfer sand dispose of base closure property closed under the DBCRA to the Secretaries of the Military Departments. Under this delegation of authority, the Secretary of the Navy must follow FPMR procedures for screening and disposing of real property when implementing base closures. Only where Congress has expressly provided additional authority for disposing of base closure property, e.g., the economic development conveyance authority established in 1993 by Section 2905(b)(4) of the DBCRA, may Navy apply disposal procedures other than those in the FRMR.

In Section 2901 of the National Defense Authorization Act for Fiscal Year 1994, Public Law 103-160, Congress recognized the economic hardship occasioned by based closures, the Federal interest in facilitating economic recovery of base closure communities, and the need to identify and implement reuse and redevelopment of property at closing installations. In Section 2903(c) of Public Law 103-160, Congress directed the Military Departments to consider each base closure community's economic needs and priorities in the property disposal process. Under Section 2905(b)(2)(E) of the DBCRA, Navy must consult with local communities before it disposes of base closure property and must consider local plans developed for reuse and redevelopment of the surplus Federal property.

The Department of Defense's goal, as set forth in Section 174.4 of the DoD Rule, is to help base closure communities achieve rapid economic recovery through expeditious reuse and redevelopment of the assets at closing bases, taking into consideration local market conditions and locally developed reuse plans. Thus, the Department has adopted a consultative approach with each community to ensure that property disposal decisions consider the LRA's reuse plan and encourage job creation. As a part of this cooperative approach, the base closure community's interest, as reflected in its zoning for the area, play a significant role in determining the range of alternatives considered in the environmental analysis for property disposal. Furthermore, Section 175.7(d)(3) of the DoD Rule provides that the LRA's plan generally will be used as the basis for the proposed disposal action.

The Federal Property and Administrative Services Act of 1949, 40 U.S.C. 484 (1944), as implemented by the FPMR, identifies several mechanisms for disposing of surplus base closure property: by public benefit conveyance (FPMR Sec. 101-47.303-2); by negotiated sale (FPMR Sec. 101-47.304-9); and by competitive sale (FPMR 101-47.304-7). Additionally, in Section 2905(b)(4), the DBCRA established economic development conveyances as a means of disposing of surplus base closure property. The selection of any particular method of conveyance merely implements the Federal agency's decision to dispose of the property. Decisions concerning whether to undertake a public benefit conveyance or an economic development conveyance, or to sell property by negotiation or by competitive bid, are left to the Federal agency's discretion. Selecting a method of disposal implicates a broad range of factors and rests solely within the Secretary of the Navy's discretion.

Conclusion: The LRA's proposed reuse of Naval Station Brooklyn, reflected in the Reuse Plan, is consistent with the requirements of the FPMR and Section 174.4 of the DoD Rule. The LRA has determined in its Reuse Plan that the property should be used for various purposes including industrial, institutional, commercial, open space and recreational activities. The property's location and physical characteristics as well as the current uses of adjacent property make it appropriate for the proposed uses.

The Reuse Plan responds to local economic conditions, promotes economic recovery from the impact of the closure of the Naval Station, and is consistent with President Clinton's Five-Part Plan for Revitalizing Base Closure Communities, which emphasizes local economic redevelopment and creation of new jobs as the means to revitalize these communities. 32 CFR parts 174 and 175, 59 FR 16123 (1994).

Although the “No Action” Alternative has less potential for causing adverse environmental impacts, this Alternative would not take advantage of the property's location and physical characteristics or the current uses of adjacent property. Additionally, it would not foster local economic redevelopment of the Naval Station property.

The acquiring entity, under the direction of Federal, State, and local agencies with regulatory authority over protected resources, will be responsible for adopting practicable means to avoid or minimize environmental harm that may result from implementing the Reuse Plan.

Accordingly, Navy will dispose of Naval Station Brooklyn in a manner that is consistent with the City of New York's Reuse Plan for the property.

Dated: January 12, 2001.
William J. Cassidy, Jr.,
Deputy Assistant Secretary of the Navy, (Conversion And Redevelopment).

[FR Doc. 01-2535 Filed 1-29-01; 8:45 am]

BILLING CODE 3810-FF-M